DEPARTMENT OF HEALTH AND HUMAN SERVICES

Substance Abuse and Mental Health Services Administration

Fiscal Year (FY) 2003 Funding Opportunity

AGENCY: Substance Abuse and Mental Health Services Administration, HHS.

ACTION: Notice of funding availability for a Supplement to Expand the Cooperative Agreement for the National Center for Child Traumatic Stress (NCCTS)

SUMMARY: The Substance Abuse and Mental Health Services Administration (SAMHSA), Center for Mental Health Services (CMHS), announces the availability of FY 2003 funds for the cooperative agreement described below. A synopsis of this funding opportunity, as well as many other Federal Government funding opportunities, is also available at the Internet site: http://www.fedgrants.gov.

This notice is not a complete description of the program; potential applicants must obtain a copy of the Request for Applications (RFA), including Part I, Supplement to Expand the Cooperative Agreement for the National Center for Child Traumatic Stress (NCCTS), Part II, General Policies and Procedures Applicable to all SAMHSA applications for Discretionary Grants and Cooperative Agreements, and the PHS 5161-1 (Rev. 7/00) application form before preparing and submitting an application.

Funding Opportunity Title: Supplement to Expand the Cooperative Agreement for the National Center for Child Traumatic Stress (NCCTS)—Short Title: NCCTS Supplement.

Funding Opportunity Number: SM 03-010.

Catalog of Federal Domestic Assistance (CFDA) Number: 93.243.

Authority: Section: 582 of the Public Health Service Act, as amended and subject to the availability of funds.

Funding Opportunity Description: The Substance Abuse and Mental Health Services Administration (SAMHSA), Center for Mental Health Services (CMHS), is accepting an application for fiscal year 2003 to expand the cooperative agreement for the National Center for Child Traumatic Stress (NCCTS). The NCCTS currently coordinates the National Child Traumatic Stress Network (NCTSN) and provides leadership and focus for 10 Intervention Development and Evaluation Centers (IDE) and 26 Community Treatment and Service Centers (CTS). These funds will enable NCCTS to strengthen its ability to support results-oriented collaborative projects within the NCTSN and support the development and dissemination of high-priority products essential for the success of the Initiative.

Eligible Applicants: Eligibility is limited to the University of California at Los Angeles (UCLA). UCLA (in partnership with Duke University) has operated the currently funded NCCTS in its first 2 years. The NCCTS has proven capable and effective in carrying out activities in pursuit of the goals of the NCTSI. This success is reflected in the expansion and supplementation of funding for NCTSI for FY 2002 and 2003. The Government's interest in building on the capacity and infrastructure already developed with Government funds is a compelling argument for continuing the NCTSI coordination activities through the UCLA-Duke NCCTS. Further, duplication of effort and substantial confusion would result if a second “National Center” were established with a primary mission of networking and collaboration building in the NCTSI. For these reasons, only the currently funded NCCTS, operated by UCLA, may apply for this award.

Due Date for Application: August 7, 2003.

Estimated Funding Available/Number of Awards: It is expected that up to $1 million will be available for this one-year supplemental award in FY 2003 (both direct and indirect costs). Actual funding levels will depend on the availability of funds. If the application proposes a budget that exceeds $1 million, it will be returned without review.

Is Cost Sharing Required: No.

Period of Support: One year.

How to Get Full Announcement and Application Materials: Complete application kits may be obtained by calling: the SAMHSA Mental Health Information Center at (800) 789-2647, Monday through Friday, 8:30 a.m. to 5 p.m., e.d.t.; TDD: (301) 443-9006; Fax: (301) 984-8796; P.O. Box 42490, Washington, DC 20015. The PHS 5161-1 application form and the full text of the funding announcement are also available electronically via SAMHSA's World Wide Web Home Page: http://www.samhsa.gov (Click on “Grant Opportunities”).

When requesting an application kit, the applicant must specify the funding opportunity title and number for which detailed information is desired. All information necessary to apply, including where to submit applications and application deadline instructions, are included in the application kit.

FOR FURTHER INFORMATION CONTACT: Robert DeMartino, M.D., Substance Abuse and Mental Health Services Administration, Center for Mental Health Services, Division of Prevention, Traumatic Stress, and Special Programs, 5600 Fishers Lane, Room 17C-26, Rockville, MD 20857, (301) 443-2940, E-mail: rdemarti@samhsa.gov.

Dated: July 7, 2003.
Anna Marsh,
Acting Executive Officer, Substance Abuse and Mental Health Services Administration.

[FR Doc. 03-17640 Filed 7-10-03; 8:45 am]

BILLING CODE 4162-20-P